DEPARTMENT OF COMMERCE

National Oceanic and Atmospheric Administration

50 CFR Part 224

[I.D. 021607C]

Endangered and Threatened Species: Extension of Public Comment Period and Notice of Public Hearings on Proposed Endangered Species Act Listing of Cook Inlet Beluga Whales

AGENCY: National Marine Fisheries Service (NMFS), National Oceanic and Atmospheric Administration (NOAA), Commerce.

ACTION: Extension of public comment period; notice of public hearings.

SUMMARY: On April 20, 2007, NMFS proposed the listing of the Cook Inlet beluga whale as an endangered species under the Endangered Species Act of 1973 (ESA), as amended. As part of that proposal, NMFS announced a public comment period to end on June 19, 2007. NMFS has received requests for an extension to the comment period and for public hearings on this issue. In response to these requests, NMFS is extending the public comment period for the proposed listing action to August 3, 2007. Additionally, NMFS is announcing that hearings will be held at two locations in Alaska to provide additional opportunities and formats to receive public input.

DATES: The deadline for comments on the April 20, 2007 (72 FR 19854) proposed rule is extended from June 19, 2007, to August 3, 2007.

ADDRESSES: We will hold two public hearings on this issue: one in Homer and one in Anchorage. The dates for these hearings will be announced in a forthcoming notice in the Federal Register.

Send comments to Kaja Brix, Assistant Regional Administrator, Protected Resources Division, Alaska Region, NMFS, Attn: Ellen Sebastian. Comments may be submitted by:

• E-mail: CIB-ESA-Endangered@noaa.gov. Include in the subject line the following document identifier: Cook Inlet Beluga Whale PR. E-mail comments, with or without attachments, are limited to 5 megabytes.

• Webform at the Federal eRulemaking Portal: www.regulations.gov. Follow the instructions at that site for submitting comments.

• Mail: P. O Box 21668, Juneau, AK 99802

• Hand delivery to the Federal Building : 709 W. 9th Street, Juneau, AK.

• Fax: (907) 586-7557.

FOR FURTHER INFORMATION CONTACT: Brad Smith, NMFS, 222 West 7th Avenue, Anchorage, AK 99517, telephone (907) 271-5006; Kaja Brix, NMFS, (907) 586-7235; or Marta Nammack, (301) 713-1401.

SUPPLEMENTARY INFORMATION:

Background

On April 20, 2007, NMFS published a proposed rule (72 FR 19854) to list the Cook Inlet beluga whale as an endangered species. This action followed completion of a status review of the Cook Inlet beluga whale which found this population to be at risk of extinction within the next 100 years. The April 20, 2007, proposed rule also describes NMFS' determination that this population constitutes a “species”, or distinct population segment, under the ESA.

Extension of Public Comment Period

Several requests have been received to extend the comment period for the proposed listing. The comment period for the proposed listing was to end on June 19, 2007. NMFS is extending the comment period until August 3, 2007, to allow for adequate opportunity for public comment and participation in public hearings (see DATES and ADDRESSES).

Public Hearings

Joint Commerce-Interior ESA implementing regulations state that the Secretary shall promptly hold at least one public hearing if any person requests one within 45 days of publication of a proposed regulation to list a species or to designate critical habitat (see 50 CFR 424.16(c)(3)). In past ESA rule-making NMFS has conducted traditional public hearings, consisting of recorded oral testimony from interested individuals. This format, although providing a means of public input, does not provide opportunities for dialogue and information exchange. NMFS believes that the traditional public hearing format can be improved upon by also including a brief presentation on the results of the Status Review and what may be considered topics of interest.

The preferred means of providing public comment for the official record is via written testimony prepared in advance of the meeting which may also be presented orally. Blank “comment sheets” will be provided at the meetings for those without prepared written comments, and opportunity will also be provided for additional oral testimony. There is no need to register for these hearings.

In scheduling these public hearings, NMFS has anticipated that many affected stakeholders and members of the public may prefer to discuss the proposed listing directly with staff during the public comment period. These public meetings are not the only opportunity for the public to provide input on this proposal. The public and stakeholders are encouraged to continue to comment and provide input to NMFS on the proposal (via correspondence, e-mail, and the Internet; see ADDRESSES, above) up until the scheduled close of the comment period on August 3, 2007.

References

The proposed rule, status review report, maps, a list of the references cited in this document, and other materials relating to the proposed listing can be found on the NMFS Alaska Region website http://www.fakr.noaa.gov/.

Authority: 16 U.S.C. 1531 et seq.

Dated: May 25, 2007.
James H. Lecky,
Director, Office of Protected Resources, National Marine Fisheries Service.

[FR Doc. E7-10587 Filed 5-31-07; 8:45 am]

BILLING CODE 3510-22-S